DEPARTMENT OF ENERGY

Federal Energy Regulatory Commission

[Project No. 2716-051]

Virginia Electric and Power Company d/b/a Dominion Energy Virginia, Allegheny Generating Company, and Bath County Energy, LLC; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 2716-051.

c. Date Filed: December 30, 2024.

d. Applicant: Virginia Electric and Power Company d/b/a Dominion Energy Virginia, Allegheny Generating Company, and Bath County Energy, LLC (Dominion).

e. Name of Project: Bath County Pumped Storage Project (Bath County Project).

f. Location: On Back Creek and Little Back Creek in Bath, Highland, Augusta, and Rockbridge counties, Virginia. The current project boundary encompasses 3,451 acres of land, including 1,122 acres of federal land in the George Washington and Jefferson National Forests administered by the U.S. Forest Service.

g. Filed Pursuant to: Federal Power Act, 16 U.S.C. 791(a)-825(r).

h. Applicant Contact: Mr. Corwin D. Chamberlain, Relicensing Project Manager, Dominion Energy, 600 Canal Place, Richmond, VA 23219-3852; (804) 273-2948; corwin.d.chamberlain@dominionenergy.com.

i. FERC Contact: Andy Bernick at (202) 502-8660 or email at andrew.bernick@ferc.gov.

j. Deadline for filing motions to intervene and protests, comments, recommendations, preliminary terms and conditions, and preliminary fishway prescriptions: on or before 5:00 p.m. Eastern Time on March 16, 2026; reply comments are due on or before 5:00 p.m. Eastern Time on April 30, 2026.

The Commission strongly encourages electronic filing. Please file motions to intervene and protests, comments, recommendations, preliminary terms and conditions, and preliminary fishway prescriptions using the Commission's eFiling system at https://ferconline.ferc.gov/FERCOnline.aspx. Commenters can submit brief comments up to 10,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Bath County Pumped Storage Project (P-2716-051).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The Bath County Project consists of the following existing facilities: (1) an upper reservoir with a surface area of 278 acres and a gross storage capacity of 37,910 acre-feet (with an usable storage capacity of 23,300 acre-feet—power pool) at a normal maximum surface elevation of 3,321 feet National Geodetic Vertical Datum of 1929 (NGVD29), created by a 2,250-foot-long, 460-foot-high, earth and rock-fill dam across Little Back Creek with a crest elevation of 3,331 feet NGVD29; (2) water conduits composed of: (a) three intake structures in the upper reservoir; (b) two 10.75-foot by 28.6-foot wheel gates at each of the three intakes; (c) three concrete-lined power tunnels, 28.5 feet in diameter with an approximately 3,300 to 3,400-foot-long upper horizontal section, a 980-foot-long vertical section, and an approximately 3,267 to 3,686-foot-long lower horizontal section, connecting each upper intake to two steel-lined 1,185 to 1,510-foot-long, 18.0 to 19.5-foot-diameter underground penstocks; and (d) a single-shaft surge tank, approximately 44 feet in diameter, for each of the power tunnels; (3) a 509-foot-long, 145-foot-wide, and 203-foot-high reinforced concrete, primarily underground powerhouse with six 65-foot-wide bays for generation/pumping equipment and one erection bay, located on the west side of the lower reservoir, housing six Francis reversible pump-turbines each rated at 414 megawatts (MW) with a maximum hydraulic capacity of 4,600 cubic feet per second (cfs) in pumping mode and 5,000 cfs in generation mode, and a total installed capacity of 2,484 MW; (4) a lower reservoir with a surface area of 555 acres and a gross storage capacity of 27,300 acre-feet (with an usable storage capacity of 25,620 acre-feet composed of a 22,570 acre-foot power pool and 3,050 acre-foot conservation pool) at a normal maximum surface elevation of 2,118 feet NGVD29, created by a 2,100-foot-long, 135-foot-high, earth and rock-fill dam across Back Creek with a crest elevation of 2,136 feet NGVD29; (5) a project switchyard on top of the powerhouse containing transformers to step-up the generator voltage to 500 kilovolts (kV), the transmission line voltage; (6) two 500-kV transmission lines, approximately 51 miles (Valley Line) and 35 miles long (Lexington Line), which interconnect at substations located in Augusta County, near Bridgewater, Virginia, and Rockbridge County, near Lexington, Virginia, respectively; and (7) appurtenant facilities.

The average annual energy generation (2014 to 2023) is 3,708,814 megawatt-hours (MWh), and the average annual pumping consumption (2000 to 2020) is 4,599,899 MWh.

Dominion manages three sediment ponds with a combined storage of about 103.5 acre-feet, located downstream of the upper reservoir on Little Back Creek outside of the current project boundary. The ponds were originally constructed to trap and limit sediment input to Little Back Creek following project construction in 1985, and Dominion continues to manage the ponds: (1) as a safety feature to protect Little Back Creek from excessive sediment deposition and flooding in the event of an emergency drawdown of the upper reservoir; (2) to regulate flows from upstream sources including the upper reservoir; (3) to supplement downstream flow; and (4) to provide recreational fishing opportunities. Dominion proposes to include the sediment ponds within the project boundary to protect Little Back Creek by trapping sediment in the unlikely event of an emergency drawdown of the upper reservoir as well as provide recreational access to the ponds over the new license term.

The project also includes an existing project recreation area, located downstream of the lower reservoir dam near Back Creek, that consists of: (1) a 49-acre upper recreation pond with a one-lane concrete boat ramp for electric motorized and non-motorized boats, a fishing pier/dock, a walking trail, two tent-only campsites, and a parking area for 22 vehicles; (2) a 26-acre lower recreation pond with a swimming beach, a recreational field for soccer or baseball, a volleyball court, a walking trail, three picnic areas with a total of 18 picnic tables, a pavilion with restrooms, a bathhouse with restrooms and showers, and a parking area for 65 vehicles; and (3) a campground with 30 recreational vehicle campsites (each with a gravel pad, fire ring, and picnic table), trash cans, a comfort station with restrooms and showers, and a check-in station.

Dominion proposes to continue to operate the Bath County Project as required by the current license. Downstream flow releases are maintained in compliance with the Virginia Water Protection Permit. As required by the permit, under normal operating conditions: (1) the daily average release from the lower reservoir shall be no less than the difference between 15 cfs and the daily average release from the upper reservoir; (2) at no time shall the instantaneous release from the lower reservoir be less than 10 cfs; and (3) the instantaneous release from the upper reservoir shall be no less than 2 cfs.

Dominion proposes to upgrade the turbine-generator units (i.e., replacement of turbine runners), including associated appurtenant facilities. No other structural or operational changes to the Bath County Project are proposed by Dominion at this time.

m. A copy of the application can be viewed on the Commission's website at https://www.ferc.gov using the “eLibrary” link. Enter the docket number excluding the last three digits in the docket number field to access the document (P-2716). For assistance, contact FERC Online Support (see item j above).

You may also register online at https://www.ferc.gov/ferc-online/overview to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must: (1) bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions, or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed on the service list prepared by the Commission in this proceeding, in accordance with 18 CFR 4.34(b) and 385.2010.

For public inquiries and assistance with making filings such as interventions, comments, or requests for rehearing, contact the Office of Public Participation at (202) 502-6595 or OPP@ferc.gov.

o. The applicant must file the following on or before 5:00 p.m. Eastern Time on March 16, 2026: (1) a copy of the water quality certification; (2) a copy of the request for certification, including proof of the date on which the certifying agency received the request; or (3) evidence of waiver of water quality certification.

p. Final amendments to the application must be filed with the Commission on or before 5:00 p.m. Eastern Time on February 17, 2026.

(Authority: 18 CFR 2.1)

Dated: January 15, 2026.
Debbie-Anne A. Reese,
Secretary.

[FR Doc. 2026-01077 Filed 1-20-26; 8:45 am]

BILLING CODE 6717-01-P